DEPARTMENT OF DEFENSE

Department of the Navy

Notice of Availability and Notice of Public Hearings for the Draft Environmental Impact Statement/Overseas Environmental Impact Statement for the Guam and Commonwealth of the Northern Mariana Islands Military Relocation

AGENCY: Department of the Navy, DoD.

ACTION: Notice.

SUMMARY: Pursuant to section 102(2)(c) of the National Environmental Policy Act (NEPA); the Council of Environmental Quality (CEQ) Regulations for implementing the procedural provisions of NEPA (Title 40 Code of Federal Regulations [CFR] Parts 1500-1508) and the Department of Navy (DON) regulations for implementing NEPA (32 CFR 775), DON announces the availability of the Draft Environmental Impact Statement/Overseas Environmental Impact Statement (hereafter called the Draft EIS) to evaluate the potential environmental impacts associated with relocating Marines from Okinawa, Japan to Guam, constructing transient nuclear aircraft carrier berthing facilities, and establishing a U.S. Army Air and Missile Defense Task Force (AMDTF) on Guam.

The DON is the lead Federal agency for development of the Draft EIS. The agencies that have accepted the invitation to participate as cooperating agencies are U.S. Fish and Wildlife Service, Federal Highways Administration, Federal Aviation Administration, U.S. Environmental Protection Agency Region 9, U.S. Office of Insular Affairs, U.S. Department of Agriculture, U.S. Army Corps of Engineers, and U.S. Air Force.

The Draft EIS examines potential environmental impacts from the three proposed actions included in the Guam and Commonwealth of the Northern Mariana Islands (CNMI) Military Relocation. The Draft EIS also examines off base mission critical, mission support, and community support infrastructure improvements needed to ensure that Joint Region Marianas can provide expanded direct support of the DoD strategic mission and operational readiness in the Western Pacific Region.

The Draft EIS considers reasonable alternatives for siting operational, training, and support facilities on Guam and CNMI in addition to the no-action alternative.

The DON will conduct six (6) public hearings to receive oral and written comments on the Draft EIS. Federal agencies, territorial/local governmental agencies, and interested individuals are invited to be present or represented at the public hearings. This notice announces the dates and locations of the public hearings for this Draft EIS.

A Notice of Intent for this Draft EIS/OEIS was published in the Federal Register on March 7, 2007 (72 FR 10186).

DATES: The public comment period for the Draft EIS will start at 8:45 a.m. (Eastern Standard Time) on November 20, 2009, with the publication of a Notice of Availability in the Federal Register by the U.S. Environmental Protection Agency and will end at midnight (Eastern Standard Time) on February 17, 2010. All comments on the Draft EIS must be postmarked or submitted by midnight (Eastern Standard Time) on February 17, 2010.

The DON will hold six (6) public hearings to receive oral and written comments from the public on the Draft EIS. These six (6) public hearings will include a two-hour open house session at the beginning of the public hearings where the public can learn more about the proposed actions and potential environmental impacts from project team members and subject matter experts.

Public hearings and open house sessions will be held as follows: Thursday, January 7, 2010, open house from 5 p.m. to 7 p.m. and public hearing from 7 p.m. to 9 p.m., Southern High School, Santa Rita, Guam; Saturday, January 9, 2010, open house from 1 p.m. to 3 p.m. and public hearing from 3 p.m. to 5 p.m., University of Guam Field House, Mangilao, Guam; Monday, January 11, 2010, open house from 5 p.m. to 7 p.m. and public hearing from 7 p.m. to 9 p.m., Yigo Gymnasium, Yigo, Guam; Tuesday, January 12, 2010, open house from 5 p.m. to 7 p.m. and public hearing from 7 p.m. to 9 p.m., Okkodo High School, Dededo, Guam; Thursday, January 14, 2010, open house from 5 p.m. to 7 p.m. and public hearing from 7 p.m. to 9 p.m., Tinian Elementary School, San Jose, Tinian; and Friday, January 15, 2010, open house from 5 p.m. to 7 p.m. and public hearing from 7 p.m. to 9 p.m., Multi-Purpose Center, Susupe, Saipan.

More information about the public hearings and open house sessions can be found on the official project Web site at http://www.guambuildupeis.us/.

ADDRESSES: The public can provide comments during the open houses/public hearings through the Web site at http://www.guambuildupeis.us/, or by mail at: Joint Guam Program Office, c/o Naval Facilities Engineering Command Pacific, 258 Makalapa Drive, Suite 100, Pearl Harbor, Hawaii 96860-3134, Attention: GPMO.

Electronic copies of the Draft EIS can be downloaded from the official project Web site at http://www.guambuildupeis.us/. Copies of the Draft EIS are available for public review at the following libraries: University of Guam Robert F. Kennedy Memorial Library, Government Documents, Tan Siu Lin Building, UOG Station, Mangilao, GU 96923; Nieves M. Flores Memorial Library, 254 Martyr Street, Hagåtña, GU 96910; Joeten-Kiyu Public Library, P.O. Box 501092, Saipan, MP 96950; Olympio T. Borja Memorial Library, P.O. Box 501250, Saipan, MP 96950 and Tinian Public Library, P.O. Box 520704, Tinian, MP 96952.

Electronic copies of the Draft EIS and copies of the executive summary can also be obtained on the project Web site at http://www.guambuildupeis.us/, or by contacting the Joint Guam Program Office, c/o Naval Facilities Engineering Command Pacific, 258 Makalapa Drive, Suite 100, Pearl Harbor, Hawaii 96860-3134, Attention: GPMO.

SUPPLEMENTARY INFORMATION: The overarching purpose for the proposed actions is to locate U.S. military forces to meet international agreement and treaty obligations and fulfill U.S. government national security to provide mutual defense, deter aggression, and dissuade coercion in the Western Pacific Region. The need of the proposed actions is to meet various criteria based upon U.S. policy, international agreements, and treaties, including but not limited to positioning forces to defend the homeland and U.S. Pacific territories; respond within a timely response range; maintain regional stability; provide flexibility to respond to regional threats; defend U.S., Japan, and allied interests, and other defense related criteria. Guam's location as the westernmost part of the United States is critical to U.S. national security interests. In implementing U.S. national security policy, the Department of Defense would increase the role of Guam and the CNMI through the relocation of Marines to Guam, increased presence of a transient aircraft carrier, and enhanced capability to protect the U.S. homeland, Pacific territories, forces, and its allies from ballistic missile attacks.

As a result of reviews of the U.S. defense posture in the Pacific region and a parallel review of U.S. force posture supporting the U.S. alliance with Japan, a portion of U.S. Marine Corps forces currently located in Okinawa, Japan would be relocated to Guam. This relocation is proposed to occur concurrent with proposed wharf construction in Guam's Apra Harbor to support the Navy transiting nuclear aircraft carriers. An Army AMDTF is also proposed for Guam to protect the U.S homeland, Pacific territories, forces and its allies against the threat of harm from ballistic missile attacks.

The Draft EIS was prepared to support inform decision making based on an understanding of the environmental impacts of the proposed Guam and CNMI military relocation and take measures to protect, restore, and enhance the environment. The decisions to be made are whether and how to implement the proposed actions.

The three proposed actions are briefly stated as follows: (1) Develop and construct facilities and infrastructure to support approximately 8,600 Marines and their 9,000 dependents relocated from Okinawa to Guam and to support training and operations on Guam and CNMI for those relocated Marines; (2) Develop and construct a new deep-draft wharf with shore side infrastructure improvements creating the capability in Apra Harbor, Guam to support a transient nuclear-powered aircraft carrier; and (3) Develop and construct facilities and infrastructure on Guam to support approximately 600 military personnel and their 900 dependents and to establish and operate an Army AMDTF.

The project locations addressed in Draft EIS are on Guam and CNMI. Guam and CNMI are part of the Mariana Islands archipelago.

Facilities construction and improvements would be necessary to accommodate the proposed actions. The proposed actions would entail increased operational activities associated with Marine Corps and Army basing, more frequent ship berthing, and the establishment of aviation maintenance operations and facilities. There would also be increased opportunities for additional military personnel to meet critical training requirements. Training could take the form of communications, command and control, combat skills, aviation, logistics, amphibious vehicle maneuvers, and weapons firing activities. Thus, required construction would include the facilities and infrastructure for maintaining a permanent Marine Corps and Army presence on Guam, and the creation of new training ranges to accommodate training a larger population of military personnel. In summary, implementation of the proposed actions would result in the following: a temporary increase in population related to the construction-related work force; a permanent increase in number of military and civilian personnel and dependents on Guam; an increase in transient presence on Guam and Tinian; an increase in number and type of major equipment assets to support military personnel and operations (e.g., aircraft, ships, amphibious watercraft); an increase in number and type of training activities; construction of new facilities; improvements to existing facilities; improvements to existing infrastructure (including roads and utilities); and the potential acquisition or long-term leasing of additional land to support the Marine Corps main cantonment area and live fire training ranges on Guam.

To accomplish the Guam and CNMI proposed actions, the DoD has considered developmental and operational alternatives as required by NEPA. The Draft EIS analyzes a range of alternatives for the proposed actions including the no action alternative, which represents the baseline.

The Draft EIS provides information on the affected environment and impacts of the proposed actions for eighteen distinct resource areas. Volume 1 of the Draft EIS provides an overview of the proposed actions and alternatives. Volumes 2 through 5 of the Draft EIS provide details on the impacts of individual proposed Marine Corps, Navy and Army actions while Volume 6 addresses island-wide impacts of utilities and proposed roadway improvement projects. Volume 7 provides a summary of the impacts of all of the proposed actions should the preferred alternatives be implemented as well as a discussion of cumulative impacts. The Draft EIS evaluates the following resource areas: groundwater, marine water quality, coral, terrestrial biology, socioeconomics, cultural resources, recreation, roadways, air quality, noise, and utilities (including water, power and wastewater), among others.

FOR FURTHER INFORMATION CONTACT: Joint Guam Program Office in Guam at (671) 333-2302 or in Washington, DC at (703) 602-4716.

Dated: November 16, 2009.
A.M. Vallandingham
Lieutenant Commander, Judge Advocate General's Corps, U.S. Navy, Federal Register Liaison Officer.

[FR Doc. E9-27960 Filed 11-19-09; 8:45 am]

BILLING CODE 3810-FF-P